DEPARTMENT OF TRANSPORTATION

Federal Highway Administration

Notice of Final Federal Agency Actions on Proposed Highway in California

AGENCY: Federal Highway Administration (FHWA), Department of Transportation (DOT).

ACTION: Notice of Limitation on Claims for Judicial Review of Actions by the California Department of Transportation (Caltrans).

SUMMARY: The FHWA, on behalf of Caltrans, is issuing this notice to announce actions taken by Caltrans that are final. The actions relate to a proposed highway project, replacing rock slope protection for four bridges at Three Star Ditch (PM R87.96R/L) and Determination Ditch (PM R90.98 R/L) on Interstate 10, in the County of Riverside, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before March 6, 2023. If the Federal law that authorizes judicial review of a claim provides a time period of less than 150 days for filing such claim, then that shorter time period still applies.

FOR FURTHER INFORMATION CONTACT: For Caltrans: Shawn Oriaz, Senior Environmental Planner, California Department of Transportation, District 8, 464 W. Fourth Street, MS-823, San Bernardino, CA 92401-1400, Phone: (909) 501-5743, Email: shawn.oriaz@dot.ca.gov. For FHWA, contact Shawn Oliver via email: shawn.oliver@dot.gov.

SUPPLEMENTARY INFORMATION: Effective July 1, 2007, the Federal Highway Administration (FHWA) assigned, and the California Department of Transportation (Caltrans) assumed, environmental responsibilities for this project pursuant to 23 U.S.C. 327. Notice is hereby given that the Caltrans, has taken final agency actions subject to 23 U.S.C. 139(l)(1) by issuing licenses, permits, and approvals for the following highway project in the State of California: Replace the existing Rock Slope Protection (RSP) for four bridges along Interstate 10 from Post Mile 87.9 to 90.9 in Riverside County, California. The project includes widening the bridge deck overhang, adding 12-inch rumble strips, replacing the existing bridge rails with concrete barrier, and replacing the existing RSP for four bridges at Three Star Ditch and Determination Ditch. The actions by the Federal agencies, and the laws under which such actions were taken, are described in the Final Environmental Assessment (FEA)/Finding of No Significant Impact (FONSI) for the project, approved on August 17, 2022, and in other documents in the Caltrans' project records. The FEA, FONSI, and other project records are available by contacting Caltrans at the addresses provided above. The Caltrans FEA and FONSI can be viewed and downloaded from the State of California, Governor's Office of Planning and Research CEQAnet Web Portal at: https://ceqanet.opr.ca.gov/2022060556.

This notice applies to all Federal agency decisions as of the issuance date of this notice and all laws under which such actions were taken, including but not limited to:

1. Council on Environmental Quality Regulations

2. National Environmental Policy Act of 1969, as amended, 42 U.S.C. 4321 et seq.

3. Federal-Aid Highway Act of 1970, 23 U.S.C. 109

4. MAP-21, the Moving Ahead for Progress in the 21st Century Act (Pub. L. 112-141)

5. Clean Air Act Amendments of 1990 (CAAA)

6. Clean Water Act of 1977 and 1987

7. Federal Water Pollution Control Act of 1972 (see Clean Water Act of 1977 and 1987)

8. Endangered Species Act of 9173

9. Executive Order 11990, Protection of Wetlands

10. Executive Order 13112, Invasive Species

11. Executive Order 13186, Migratory Birds

12. Fish and Wildlife Coordination Act of 1934, as amended

13. Migratory Bird Treaty Act

14. Executive Order 11988, Floodplain Management

15. Department of Transportation (DOT) Executive Order 5650.2—Floodplain Management and Protection (April 23, 1979)

16. Rivers and Harbors Appropriation Act of 1899, Section 9 and 10

17. Title VI of the Civil Rights Act of 1964, as amended.

(Catalog of Federal Domestic Assistance Program Number 20.205, Highway Planning and Construction. The regulations implementing Executive Order 12372 regarding intergovernmental consultation on Federal programs and activities apply to this program.)

(Authority: 23 U.S.C. 139(l)(1))

Antonio Johnson,
Director, Planning, Environment and Right of Way, Federal Highway Administration, California Division.

[FR Doc. 2022-21711 Filed 10-5-22; 8:45 am]

BILLING CODE 4910-RY-P